DEPARTMENT OF AGRICULTURE

Forest Service

Madera County Resource Advisory Committee

AGENCY: Forest Service, USDA.

ACTION: Notice of Resource Advisory Committee Meeting.

SUMMARY: Pursuant to the authorities in the Federal Advisory Committee Act of 1972 (Public Law 92-463) and under the secure Rural Schools and Community Self-Determination Act of 2000 (Public Law 106-393) the Sierra National Forest's Resource Advisory Committee for Madera County will meet on Monday, November 10, 2003. The Madera Resource Advisory Committee will meet at the Yosemite Bank, Oakhurst, CA. The purpose of the meeting is: review new RAC proposals, review progress of FY 2002 accounting, review new Forest Service Region 5 RAC website, decision on Madera County RAC Mission Sub-committee proposal, report on trails project field review, and voting procedures proposal update.

DATES: The Madera Resource Advisory Committee meeting will be held Monday, November 10, 2003. The meeting will be held from 7 p.m. to 9 p.m.

ADDRESSES: The Madera County RAC meeting will be held at the Yosemite Bank, 40061 Highway 40, Oakhurst, CA 93644.

FOR FURTHER INFORMATION CONTACT: Dave Martin, U.S.D.A., Sierra National Forest, 57003 Road 225, North Fork, CA 93643, (559) 877-2218 ext. 3100; e-mail: dmartin05@fs.fed.us.

SUPPLEMENTARY INFORMATION: Agenda items to be covered include: (1) Review new RAC proposals, (2) review progress of FY 2002 accounting, (3) review new Forest Service Region 5 RAC website, (4) decision on Madera County RAC Mission Sub-committee proposal, (5) voting procedures proposal update. Public input opportunity will be provided and individuals will have the opportunity to address the Committee at that time.

Dated: October 24, 2003.
David W. Martin,
District Ranger.

[FR Doc. 03-27425 Filed 10-30-03; 8:45 am]

BILLING CODE 3410-11-M